DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or the Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Action(s)

On July 30, 2021, OFAC determined that the property and interests in property subject to U.S. jurisdiction of the following persons are blocked under the relevant sanctions authority listed below.

Individuals

1. CALLEJAS VALCARCE, Oscar Alejandro, Goycuria #119, 10 Octubre, Havana, Cuba; DOB 19 Sep 1957; POB Havana, Cuba; nationality Cuba; Gender Male; Passport A006951 (Cuba) expires 18 Jul 2027; National ID No. 57091910348 (Cuba); Director, Policia Nacional Revolucionaria (individual) [GLOMAG] (Linked To: POLICIA NACIONAL REVOLUCIONARIA).

Designated pursuant to section 1(a)(iii)(B) of Executive Order 13818 of December 20, 2017, “Blocking the Property of Persons Involved in Serious Human Rights Abuse or Corruption” (E.O. 13818) for being owned or controlled by, or for having acted or purported to act for or on behalf of, directly or indirectly, the POLICIA NACIONAL REVOLUCIONARIA, a person whose property and interests in property are blocked pursuant to the Order.

2. SIERRA ARIAS, Eddy Manuel, Calle 206A, No. 2119B, Entre 21 y 23, Atabey, Playa, Havana, Cuba; DOB 03 Sep 1971; POB Holguin, Cuba; nationality Cuba; Gender Male; Passport A008237 (Cuba) expires 20 Apr 2027; National ID No. 71090325982 (Cuba); Deputy Director, Policia Nacional Revolucionaria (individual) [GLOMAG] (Linked To: POLICIA NACIONAL REVOLUCIONARIA).

Designated pursuant to section 1(a)(iii)(B) of E.O. 13818 for being owned or controlled by, or for having acted or purported to act for or on behalf of, directly or indirectly, the POLICIA NACIONAL REVOLUCIONARIA, a person whose property and interests in property are blocked pursuant to the Order.

Entity

1. POLICIA NACIONAL REVOLUCIONARIA, Manzana que ocupan las calles Cuba, Tacon y Chacon, La Habana Vieja, Havana, Cuba; Target Type Government Entity [GLOMAG] (Linked To: MINISTRY OF INTERIOR).

Designated pursuant to section 1(a)(iii)(B) of E.O. 13818 for being owned or controlled by, or for having acted or purported to act for or on behalf of, directly or indirectly, directly or indirectly, the MINISTRY OF INTERIOR, a person whose property and interests in property are blocked pursuant to the Order.

Dated: July 30, 2021.
Andrea M. Gacki,
Director, Office of Foreign Assets Control, U.S. Department of the Treasury.

[FR Doc. 2021-17598 Filed 8-16-21; 8:45 am]

BILLING CODE 4810-AL-P